DEPARTMENT OF COMMERCE

Foreign-Trade Zones Board

[B-057-2017]

Foreign-Trade Zone (FTZ) 35—Philadelphia, Pennsylvania; Notification of Proposed Production Activity; Estee Lauder Inc. (Skin Care, Fragrance, and Cosmetic Products) Bristol and Trevose, Pennsylvania

Estee Lauder Inc. (Estee Lauder) submitted a notification of proposed production activity to the FTZ Board for its facilities in Bristol and Trevose, Pennsylvania, under FTZ 35. The notification conforming to the requirements of the regulations of the FTZ Board (15 CFR 400.22) was received on August 30, 2017.

Estee Lauder indicates that it submitted a separate application for usage-driven FTZ site designation at its facilities under FTZ 35. The facilities will be used for production of skin care, fragrance, and cosmetic products. Pursuant to 15 CFR 400.14(b), FTZ activity would be limited to the specific foreign-status materials and components and specific finished products described in the submitted notification (as described below) and subsequently authorized by the FTZ Board.

Production under FTZ procedures could exempt Estee Lauder from customs duty payments on the foreign-status components used in export production. On its domestic sales, for the foreign-status materials/components noted below, Estee Lauder would be able to choose the duty rates during customs entry procedures that apply to: Perfumes; Fragrance; Lip Make-up; Eye Make-up; Manicure/Pedicure Preparation Pads; Rouge Powder; Non-Rouge Cosmetic Powder; Cosmetic Make-up; Bath Products; Body Wash, Skin Brightening Agent; Brightening Serum; Skin Lightening Agent; Cosmetic Foundation (duty rate ranges from duty-free to 6.5%). Estee Lauder would be able to avoid duty on foreign-status components which become scrap/waste. Customs duties also could possibly be deferred or reduced on foreign-status production equipment.

The components and materials sourced from abroad include: Ginseng Extract; Crude Mica; Mica Powder; Talc Powder; Silicon Dioxide; Iron Oxide; Titanium Oxides Other Than Titanium Dioxide; Caprylyl Glycol; Zinc Stearate; Potassium Sorbate; Amino Acids; Vitamin C; Vitamin E; Food Coloring; Preparations based on Iron Oxides; Preparations based on Hexacyanoferrates; Gamma Oryzanol; Glyceryl Stearate; Glyceryl Laurate; Sorbitan Palmitate; Algae Extract; Butylene Glycol; Bifidus Extract and Liposome Blend; Caffeine Extract; Centaurium Erythraea Extract; Glycereth Hydroxystearate; Ethyl Macadamiate; Butylene Glycol Extracts; Glyceryl; Rooibois Tea Leaf Extract; Willow Bark Extract; Phospholipid; Protein Complexed Vitamins; Isopropyl Isostearate; Yeast Extract; Dimer Diol Building Block; Sorbitan Stearate; Synthetic Beeswax; Sodium Hyaluronate Solution; Grapefruit Seed Extract; Oat Kernel Extract; Carnosine; Emollient; Hydroglycolic Solution; Caprylic/Capric Triglyceride and Plankton Extract Blend; Polyglycol; Menthyl Pyrrolidone Carboxylate; Salicylic Acid Liposomes; Plant Growth Stimulant; Tribehenin; Polyamide Gellants; Tricontanyl Polyvinylpyrrolidone; 1-Decene Homopolymer Hydrogenated; Olive Leaf Extract; Lipid Synthesis Stimulant; Cosmetic Extenders; Polyethylene Glycols; Trioctyldodecyl Citrate; Sorbitan Tristearate; Agar Microspheres; Anti-Wrinkle Agent; Soy Milk Culture; Glyceryl Behenate; Polydecene; Sucrose Polystearate; Hexyldecyl Stearate; Rose of Jericho; Isopropyl Titanium Triisostearate; Extensins (Plant Cell Wall Glycoprotein); Liquid Polymer for Sprayable, Pourable, or Spreadable Formulae; Vitamin A; Thermochromic Liquid Crystals; Fatty Acid; Glycol Stearate; Glyceryl Dimyristate; Sodium Ribonucleic Acid; Octadecanoic Acid Cetyl Ricinoleate; Chemical Extender; Polyglyceryl; Glycol Distearate; Eye Cream; Glycerin; Phenoxyethanol; Chemical Preservatives; Squalane Butter Treated Powders; Lanolin Substitute; Anti-Aging Complex; Sorbitan; Disteardimomium Hectorite; Sunscreen Dispersion Agent; Sunstone; Oil Absorber; Surfactant; Lime Tea; Carcinine; Skin Firming Agent; Iron Oxide Blend; Glyceryl Ester; Cosmetic Silt; Bifidus Extract; Cosmetic Stabilizer; Corn Extract; Zeolites; Emulsifier; Date Palm Kernel Extract; Moisturizing Agent; Polyglyceryl-2 Isostearate/Dimer Dilinoleate Copolymer; Diisopropyl Dimer Dilinoleate; Petrolatum; Porphyra Extract; Cleansing Oil; Liposomes; Castor Oil; Polyglyceryl-2 Triisostearate; Coagulant; Skin Smoothening Agent; Eye Shadow Binder; Octocrylene; Wild Mint Extract; Tepezcohuite; Bamboo Charcoal Powder; Gel Solvent; Silicone Gel; Phytosterols; Isononyl Isononanoate; Biomimetic Collagen; Sun-Protecting Agent; Retinoids; Antioxidant; Alumina Hydrate Extract; Salicylic Acid and Acacia Senegal Gum Molecular Association; Moisturizing Gel; Elastomer Dispersion; Smoothing Emulsion; Gelator; Skin and Lip Smoothening Powder; Fine Polyamide Powders; Silicones in Primary Form; Plastic Compact; Plastic Bottle; Plastic Cap; Plastic Tube; Paper Packing Containers; Ribbon; Framed Mirrors; Glass Bottle; Brass Compacts; Aluminum Cosmetic Pans; Compact Powder Case; Metal Stoppers, Caps, and Lids; Cosmetic Applicator Powder Puffs and Pads (duty rate ranges from duty-free to 7.8%); and, Mascara Brush (duty rate ranges from 0.2¢ each + 7% to 0.3¢ each + 3.6%).

The request indicates that Ribbon is subject to antidumping/countervailing duty (AD/CVD) orders on certain countries. The FTZ Board's regulations (15 CFR 400.14(e)) require that merchandise subject to AD/CVD orders be admitted to the zone in privileged foreign status (19 CFR 146.41).

Public comment is invited from interested parties. Submissions shall be addressed to the Board's Executive Secretary at the address below. The closing period for their receipt is October 31, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita Chen at juanita.chen@trade.gov or (202) 482-1378.

Dated: September 14, 2017.
Andrew McGilvray,
Executive Secretary.

[FR Doc. 2017-20083 Filed 9-20-17; 8:45 am]

BILLING CODE 3510-DS-P